DEPARTMENT OF HEALTH AND HUMAN SERVICES

Centers for Disease Control and Prevention

[60Day-12-12EK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly Lane, CDC Reports Clearance Officer, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Process and Intermediate Outcome Evaluation of “Teenage Pregnancy Prevention: Integrating Services, Programs, and Strategies through Community-Wide Initiatives”—New—National Center for Chronic Disease Prevention and Health Promotion (NCCDPHP), Centers for Disease Control and Prevention (CDC).

Background and Brief Description

In 2010, among Western industrialized nations, the United States had the highest rate of births among teens ages 15-19 years. Although the evidence strongly suggests that teenage pregnancy is a multifaceted problem stemming from interrelated internal and external factors, pregnancy prevention programs have typically focused on one factor (e.g., sex education or abstinence education). Several recent reviews have emphasized that multi-component approaches to teen pregnancy prevention, which are implemented at the local level, may offer the greatest potential in teenage pregnancy prevention. Multi-component approaches may include a combination of clinic services, sexuality education programs, job readiness training, academic tutoring, mentoring, and life skills training.

In his budget for Fiscal Year (FY) 2010, President Obama proposed a new Teenage Pregnancy Prevention (TPP) Initiative to address the high teen pregnancy and birth rates by replicating evidence-based models and testing innovative strategies. On December 16, 2009, the President signed the Consolidated Appropriations Act, 2010 (Pub. L. 111-117). Division D Title II of the Act provides $110,000,000 for making competitive contracts and grants to public and private entities to fund medically accurate and age appropriate programs that reduce teen pregnancy. It also includes some of the Federal costs associated with administering and evaluating such projects.

As part of this initiative, CDC released two funding opportunity announcements (FOAs) related to innovative evidence-based teenage pregnancy prevention programs: (1) DP10-1009, Teenage Pregnancy Prevention: Integrating Services, Programs, and Strategies Through Community-Wide Initiatives and (2) DP10-1025, Reducing Teen Pregnancy Through Family Planning: Integrating Services, Programs, and Strategies Through Community-Wide Initiatives. CDC is currently providing funding to nine state and community awardees, and five national organizations, to examine innovative, evidence-based teenage pregnancy prevention programs. Efforts are focused in communities with high rates of teen pregnancy in under-served African American and Latino youth. Components of these efforts include (1) implementing evidence-based or evidence-informed prevention programs; (2) linking teens to quality health services; (3) educating stakeholders (parents, community leaders, and other constituents) about relevant evidence-based or evidence-informed strategies to reduce teen pregnancy; and (4) supporting the sustainability of the community-wide teen pregnancy prevention effort through capacity building and improved coordination of services.

Upon receiving OMB approval, CDC proposes to collect the information needed to conduct a process and intermediate outcome evaluation of these efforts for the next three years of this five year TPP initiative. Using a repeat cross-sectional design, the information collection and evaluation plan will systematically document capacity building within funded communities over time and the extent to which communities implemented multi-component, community-wide initiative activities as planned. Respondents for the nine state and community awardees will include the project director/coordinator for each site, evaluators, and other program staff. In addition, to gain a variety of perspectives, information will be requested from multiple community and clinical partners associated with each state or community awardee (e.g., program implementers and core advisory group members). Information collected from these respondents will include needs assessments and selected costs of participating in the TPP initiative. Finally, CDC will collect information about the training and technical assistance needs of state and community awardees, and national organizations, which have been funded to support community-wide TPP activities.

Specifically, the following information will be collected: the needs of nine project directors/coordinators will be assessed; the estimated burden for this yearly assessment is 7 hours. Fifty state and community awardees with submit yearly progress towards meeting performance measures; the estimated burden for this yearly assessment is 200 hours. The needs of fifty staff members will be assessed; the estimated burden for this yearly assessment is 38 hours. Training and technical assistance from 50 state and community awardees will be assessed; the estimated burden for this as-needed assessment is 600 hours. The costs of 50 staff members will be assessed; the estimated burden for this as needed assessment is 125 hours. The training and technical assistance provided by 15 national organization awardee staff members will be assessed; the estimated burden for this as needed assessment is 180 hours. The needs of 50 clinical providers will be assessed; the estimated burden for this yearly assessment is 50 hours. The needs of 100 program implementation partners will be assessed; the estimated burden for this yearly assessment is 75 hours. The costs of 150 community of and clinical partner participants will be assessed; the estimated burden for this as needed assessment is 375 hours. The costs of sponsored activities for 50 community and clinical partners; the estimated burden for this yearly assessment is 125 hours.

All information can be reported to CDC through an interactive web-based system, “iGTO,” that awardees can use to manage their general organizational information and to support and track the implementation of strategies to prevent teen pregnancy. Respondents who prefer not to use the iGTO system will be able to export the assessment tools, complete them, and return their reports to CDC by electronic mail. Assessment and performance information will be reported to CDC annually. In addition, CDC will collect information about costs and awardee needs for training and technical assistance. To ensure high data quality, cost information will be submitted as soon as it becomes available. CDC estimates that each state or community awardee will submit 10 cost data reports per year. Training and technical assistance needs will be reported monthly so that CDC can provide immediate, targeted technical assistance as needed. The assessment information, performance measures and training and technical assistance information to be collected are critical to understanding (1) the teen pregnancy prevention needs of each target community, (2) quality implementation practices associated with evidence-based programs and contraceptive access, and (3) the impact of implemented strategies.

OMB approval is requested for three years. There are no costs to respondents other than their time.

Estimated Annualized Burden Hours
Type of respondent | Form name | Number of respondents | Number of responses per respondent | Average burden per response (hr) | Total burden (hr)
State and Community Awardees | Project Director/Coordinator Needs Assessment | 9 | 1 | 45/60 | 7
| Performance Measure Assessment Tool | 50 | 1 | 4 | 200
| Staff Assessment | 50 | 1 | 45/60 | 38
| Training and Technical Assistance Tool | 50 | 12 | 1 | 600
| Cost Reporting Form For Sponsored Activities | 50 | 10 | 15/60 | 125
National Organization Awardees | Training and Technical Assistance Tool | 15 | 112 |  | 180
Community and Clinical Partners | Clinical Provider Needs Assessment Tool | 50 | 1 | 1 | 50
| Program Implementation Partner Needs Assessment Tool | 100 | 1 | 45/60 | 75
| Partner Cost Reporting Form for Participants | 150 | 10 | 15/60 | 375
| Cost Reporting Form For Sponsored Activities | 50 | 10 | 15/60 | 125
Total |  |  |  |  | 1,775

Kimberly S. Lane,
Chief Reports Clearance Officer, Centers for Disease Control and Prevention.

[FR Doc. 2012-4550 Filed 2-24-12; 8:45 am]

BILLING CODE 4163-18-P